DEPARTMENT OF AGRICULTURE

Forest Service

Wrangell Ranger District, Tongass National Forest, Alaska; Baht Roaded Timber Sale Environmental Impact Statement

AGENCY: Forest Service, USDA.

ACTION: Revised Notice of Intent to prepare an Environmental Impact Statement.

SUMMARY: This NOI revises the proposed action, dates, and contact information in the original Notice of Intent published in the Federal Register Number 217 (pages 63755-63757) on November 10, 2003. The Department of Agriculture, Forest Service, will prepare an Environmental Impact Statement (EIS) on a proposal to harvest timber in the Baht Roaded Timber Sale project area, Wrangell Ranger District, Tongass National Forest. The proposed action is to harvest an estimated 42 million board feet on approximately 1,410 acres with about 11 miles on new road construction. The Tongass National Forest Supervisor will decide whether or not to harvest timber from this area, and if so, how this timber would be harvested. The decision will be documented in a Record of Decision based on information disclosed in the EIS and the goals, objectives and desired future conditions as stated in the Tongass Land Resource Management Plan (Forest Plan).

DATES: Individuals interested in receiving a scoping package should contact us at the address below. Comments will be most helpful if received by March 3, 2006. The Draft Environmental Impact Statement is projected to be filed with the Environmental Protection Agency (EPA) in April 2006 and will begin a 45-day public comment period. The Final Environmental Impact Statement and Record of Decision are anticipated to be published in September 2006.

ADDRESSES: Please send written comments to Wrangell Ranger District; Tongass National Forest, Attn: Baht EIS; P.O. Box 51, Wrangell, AK 99929. The fax number is 907-874-7595. Electronic comments can be e-mailed to comments-alaska-tongass-wrangell@fs.fed.us. Please include the word “Baht” in the subject line. In all correspondence, include your name, address, and organization name if you are commenting as a representative of an organization.

FOR FURTHER INFORMATION CONTACT: Questions about the proposal and EIS should be directed to Mark Hummel, District Ranger, or Linda Christian, IDT Leader, Wrangell Ranger District, Tongass National Forest, P.O. Box 51, Wrangell, AK 99929; telephone (907) 874-2323.

SUPPLEMENTARY INFORMATION: The Baht Environmental Impact Statement, Wrangell Ranger District, Tongass National Notice of Intent to Prepare an Environmental Impact Statement (NOI) was published in the Federal Register Number 217 (pages 63755-63757) on November 10, 2003. This NOI revises the proposed action, dates, and contact information in the original Notice of Intent. The Baht Roaded Timber Sale project area is located within Tongass Forest Plan Value Comparison Units 456, 457, 458 and 459 on the northern half of Zarembo Island, Alaska, Wrangell Ranger District of the Tongass National Forest. The projected area is located approximately 17 air miles west of Wrangell, Alaska. The project area covers approximately 57,600 acres, of which approximately 18,000 acres are considered suitable for timber management. The Baht Project Area contains portions of four different LUDs: Timber Production represents 58.9% of the project area, Scenic Viewshed 37%, Old-growth Habitat 4% and Semi-Remote Recreation .01%. The sale is currently listed on the Tongass 5-year action plan and is to be sold in 2007. The Baht Roaded Timber Sale project is consistent with the 1997 Forest Plan.

The purpose and need for the proposed action responds to the goals and objectives the Forest Plan, as amended, and helps move the area toward the desired conditions as described in the forest plan. The Tongass Forest Plan goals and objectives applicable to the Baht Project Area: Contribute to the production of even-flow, long-term sustained yield of timber, as well as a mix of other resource activities; seek to provide a timber supply sufficient to meet the annual and planning cycle market demand for Tongass National Forest timber; provide a diversity of opportunities for resource uses that contribute to the economies of Southeast Alaska; and support a wide range of natural resource employment opportunities within Southeast Alaska's communities.

The proposed action is to harvest an estimated 42 million board feet on approximately 1,410 acres with about 11 miles of new road construction. The proposed action will use clearcutting to manage the area under an even aged management prescription. The Baht Project Area includes old-growth habitat reserves (OGRs) as designated in the Forest Plan. To meet Forest Plan criteria for old-growth reserves, changes to a small OGR boundary will be proposed as part of this project. A non-significant Forest Plan amendment will be required to address this change.

A range of alternatives will be developed to respond to the significant issues. In addition to the no-action alternative, alternatives will likely propose harvest of 15-45 million board feet of timber on an estimated 500-1,500 acres offered in one or more timber sales.

Preliminary Issues: Tentative issues identified for analysis in the EIS include the potential effects of the project on and the relationship of the project to: Old-growth ecosystem management and the maintenance of habitat for viable populations of wildlife species, timber sale economics, road construction/access management and water quality. Public participation is an integral component of the analysis process. This notice of intent re-initiates the scoping process that guides the development of the environmental impact statement. The Forest Service will seek additional information, comments and assistance from tribal governments, Federal, state and local agencies, individuals and organizations that may be interested in or affected by the proposed activities. Written scoping comments were solicited through a preliminary scoping package that was sent to persons on the project mailing list in July 2003. Additional written scoping comments are being solicited through a scoping package that will be sent to the project mailing list concurrent with the publication of this NOI. For the Forest Service to best use the scoping input, comments should be received by March 3, 2006. If comments were submitted during the July 2003 scoping period, they are being considered and it is not necessary to re-submit the same comments.

The Interdisciplinary Team will review comments received during the scoping period to determine which comments are significant and within the scope of this project. The team will then develop issues and a range of alternatives to address the significant issues, including the “No Action” alternative, in which no additional timber harvest or road constructyion is proposed. Other alternatives will consider various levels and locations of timber harvest in response to issues and non-timber objectives. The team will then prepare a Draft Environmental Impact Statement (DEIS) that will display the alternatives and the direct, indirect, and cumulative effects of each alternative. The Draft EIS is projected to be filed with the Environmental Protection Agency (EPA) in April 2006. The Final EIS is anticipated by September 2006. Subsistence hearings, as provided for in Title VIII, section 810 of the Alaska National Interest Lands Conservation Act (ANILCA), will be conducted, if necessary, during the comment period on the Draft Environmental Impact Statement.

Early Notice of Importance of Public Participation in Subsequent Environmental Review: A draft environmental impact statement will be prepared for comment. The comment period on the draft environmental impact statement will be 45 days from the date the Environmental Protection Agency publishes the notice of availability in the Federal Register.

The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533, (1978). Environmental objections that could have been raised at the draft environmental impact statement stage may be waived or dismissed by the courts. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement. To assist the Forest service in identifying and considering issues and concerns of the proposed action, comments during scoping and comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. In addition to commenting on the proposed action and the DEIS when it is released, agencies and other interested persons or groups are invited to write to or speak with Forest Service officials at any time during the planning process.

Comments received in response to this solicitation, including names and addresses of those who comment, will be considered part of the public record on this proposed action and will be available for public inspection.

Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within 7 days.

Permits or Licenses Required: Permits required for implementation include the following:

1. U.S. Army Corp of Engineers.

—Approvals of discharge of dredged or fill material into the waters of the United States under section 404 of the Clean Water Act;

—Approval of the construction of structures or work in navigable waters of the United States under section 10 of the Rivers and Harbors Act of 1899;

2. Environmental Protection Agency.

—National Pollutant Discharge Elimination System (402) Permit;

—Review Spill Prevention Control and Countermeasure Plan;

3. State of Alaska, Department of Natural Resources.

—Tideland Permit and Lease or Easement;

4. State of Alaska, Department of Environmental Conservation.

—Solid Waste Disposal Permit;

—Certification of Compliance with Alaska Water Quality Standards (401 Certification)

Responsible Official: Forrest Cole, Forest Supervisor, Tongass National Forest, Federal Building, 648 Mission Street, Ketchikan, Alaska 99901, is the responsible official.

Nature of Decision To Be Made: The Forest Supervisor will consider the comments, responses, disclosure of environmental consequences, and applicable laws, regulations, and policies in making the decision. The responsible official will decide whether or not to harvest timber from this area, and if so, how this timber would be harvested. The responsible official will state the decision and the rationale for the decision in the Record of Decision (ROD). (Authority: 40 CFR 1501.7 and 1508.22; Forest Service Handbook 1909.15, Section 21)

Dated: January 27, 2006.
Forrest Cole,
Forest Supervisor.

[FR Doc. 06-1001 Filed 2-2-06; 8:45 am]

BILLING CODE 3410-11-M